DEPARTMENT OF THE INTERIOR

Fish and Wildlife Service

[FWS-HQ-MB-2016-N006; 91100-3740-GRNT 7C]

Announcement of Public Meeting Via Teleconference: North American Wetlands Conservation Council

AGENCY: Fish and Wildlife Service, Interior.

ACTION: Notice of meeting.

SUMMARY: The North American Wetlands Conservation Council (Council) will meet via teleconference to select North American Wetlands Conservation Act (NAWCA) U.S. small grant proposals for reporting to the Migratory Bird Conservation Commission (Commission). This teleconference is open to the public, and interested persons may present oral or written statements.

DATES: The teleconference is scheduled for February 24, 2016, at 2 p.m. Eastern Standard Time. If you are interested in presenting information at this public teleconference, contact the Council Coordinator no later than February 19, 2016.

ADDRESSES: Because this is a teleconference, there is no meeting venue. Individuals wishing to participate in the teleconference should contact the Council Coordinator no later than February 19, 2016, for the call-in information and so we can ensure that we have an adequate number of lines.

FOR FURTHER INFORMATION CONTACT: Sarah Mott, Council Coordinator, by phone at 703-358-1784; by email at dbhc@fws.gov; or by U.S. mail at U.S. Fish and Wildlife Service, 5275 Leesburg Pike MS: MB, Falls Church, Virginia 22041.

SUPPLEMENTARY INFORMATION:

About the Council

In accordance with NAWCA (Pub. L. 101-233, 103 Stat. 1968, December 13, 1989, as amended), the State-private-Federal Council meets to consider wetland acquisition, restoration, enhancement, and management projects for recommendation to, and final funding approval by, the Commission.

The NAWCA provides matching grants to organizations and individuals who have developed partnerships to carry out wetlands conservation projects in the United States, Canada, and Mexico. These projects must involve long-term protection, restoration, and/or enhancement of wetlands and associated uplands habitats for the benefit of all wetlands-associated migratory birds. Project proposal due dates, application instructions, and eligibility requirements are available on the NAWCA Web site at www.fws.gov/birds/grants/north-american-wetland-conservation-act.php.

Public Input
If you wish to: | You must contact the Council Coordinator (see FOR FURTHER INFORMATION CONTACT) no later than
(1) Request call-in information for the Council teleconference | February 19, 2016.
(2) Submit written information or questions before the Council for consideration during the teleconference | February 19, 2016.
(3) Listen to the Council Meeting | February 24, 2016.

Submitting Written Information or Questions

Interested members of the public may submit relevant information or questions to be consider during the public teleconference. If you wish to submit a written statement, so that the information may be made available to the Council for their consideration prior to the teleconference, you must contact the Council Coordinator by the date in Public Input. Written statements must be supplied to the Council Coordinator in both of the following formats: One hard copy with original signature, and one electronic copy via email (acceptable file formats are Adobe Acrobat PDF, MS Word, MS PowerPoint, or rich text file).

Giving an Oral Presentation

Individuals or groups requesting to make an oral presentation at the teleconference will be limited to 2 minutes per speaker, with no more than a total of 30 minutes for all speakers. Interested parties should contact the Council Coordinator by the date above, in writing (preferably via email; see FOR FURTHER INFORMATION CONTACT), to be placed on the public speaker list for this teleconference. Nonregistered public speakers will not be considered during the Council teleconference. Registered speakers who wish to expand upon their oral statements, or those who had wished to speak but could not be accommodated on the agenda, are invited to submit written statements to the Council within 30 days following the teleconference.

Teleconference Minutes

Summary minutes of the Council teleconference will be maintained by the Council Coordinator at the address under FOR FURTHER INFORMATION CONTACT. Teleconference notes will be available by contacting the Council Coordinator within 30 days following the teleconference. Personal copies may be purchased for the cost of duplication.

Jerome Ford,
Assistant Director, Migratory Birds.

[FR Doc. 2016-00826 Filed 1-15-16; 8:45 am]

BILLING CODE 4333-15-P